SMALL BUSINESS ADMINISTRATION

[License No. 09/09-0463]

Tregaron Opportunity Fund I, L.P.; Notice Seeking Exemption Under Section 312 of the Small Business Investment Act, Conflicts of Interest

Notice is hereby given that Tregaron Opportunity Fund I, L.P., 540 University Avenue, Suite 250, Palo Alto, CA 94301, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Tregaron Opportunity Fund I, L.P. proposes to provide debt financing to PIU Management, LLC, 1860 West University Drive, Suite 108, Tempe, AZ 85281.

The financing is brought within the purview of § 107.730(a)(1) of the Regulations because Nelson E. Matthew and M. Todd Collins, members of the Licensee's General Partner, own Tregaron Investors, LLC, which has a greater than ten percent interest in PIU Management, LLC, and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: November 21, 2011.
Sean J. Greene,
Associate Administrator for Investment.

[FR Doc. 2011-31195 Filed 12-6-11; 8:45 am]

BILLING CODE P